DEPARTMENT OF DEFENSE

Department of the Navy

Notice of Public Meeting for the Draft Environmental Impact Statement (DEIS) for Military Family Housing in the San Diego Region

AGENCY: Department of the Navy, DOD.

ACTION: Notice.

SUMMARY: Pursuant to section 102(2)(c) of the National Environmental Policy Act (NEPA) of 1969, as implemented by the Council on Environmental Quality regulations (40 CFR parts 1500-1508), the Department of the Navy (Navy) has prepared and filed with the U.S. Environmental Protection Agency (EPA) the DEIS for Military Family Housing (MFH) in the San Diego Region. The public meetings will be held to provide information, as well as receive oral and written comments on the DEIS. Federal, state, and local agencies and interested individuals are invited to be present or represented at the meeting. The public meetings will be open forums in that there will be no formal presentations; however, you may speak directly with representatives from the Navy and Marine Corps. There will be information booths on planning and environmental issues associated with the proposed action. A certified court reporter will also be available to take comments at the public meetings.

DATES AND ADDRESSES: Two public meetings will be held to provide additional information, answer questions, and receive oral and written comments. The first meeting will be held on Tuesday, July 22, 2003, from 6 p.m. to 9 p.m. at Deportola Middle School, 11010 Clairemont Mesa Blvd, San Diego, CA. The second meeting will be held on Thursday, July 24, 2003, from 6 p.m. to 9 p.m. at Scripps Ranch Community Library, 10301 Scripps Ranch Lake Dr, San Diego, CA.

FOR FURTHER INFORMATION CONTACT: Ms. Sheila Donovan, Regional Planning Team, Southwest Division at (619) 532-1253, E-Mail at donovansm@efdsw.navfac.navy.mil, or write to Commander, Southwest Division, Naval Facilities Engineering Command, Attn: Ms. Sheila Donovan, Code 05GPE.SD, 1220 Pacific Highway, San Diego, CA 92132-5190.

SUPPLEMENTARY INFORMATION: A Notice of Intent (NOI) to prepare the DEIS was published in the FR, Vol. 64, FR 50795-50796, September 16, 1999. Two public scoping meetings were held on October 6, 1999, at Serra High School in Tierrasanta and October 13, 1999, at Scripps Ranch High School in Scripps Ranch. The meetings were advertised in the Union-Tribune on September 17, 18, and 19, 1999.

The proposed action is the construction of up to 1,600 MFH units and supporting infrastructure. The DEIS analyzes three MFH alternatives and the No Action Alternative. The MFH sites (Sites 2, 3, and 8) are located on Marine Corps Air Station (MCAS) Miramar in the City of San Diego within an area known as East Miramar.

Site 2 is approximately 283 acres and would include development of up to 1,000 units. Site 2 is located off Pomerado Road in the northeast portion of East Miramar near the community of Scripps Ranch.

Site 3 is approximately 233 acres and would include development of up to 1,246 units. Site 3 is located in the north central portion of East Miramar near the community of Scripps Ranch and would be accessed by an extension of Miramar Way.

Site 8 is approximately 299 acres and would include development of up to 1,600 units. Site 8 is located in the southeastern portion of East Miramar near the community of Tierrasanta. This site would be accessed by a 2.5-mile extension of Santo Road at State Route (SR) 52. An alternate access for Site 8 is also examined in the DEIS that involves the construction of a new interchange on SR 52 and the construction of an approximately 400-foot long roadway. All sites would also include acreage for an elementary school site (Site 8 includes acreage for two elementary school sites) and other recreational facilities. The No Action alternative would result in the proposed new housing not being built. The DEIS identifies Site 8 as the Preferred Alternative.

The shortage of affordable housing in the San Diego region has been and continues to be a high priority for the Department of the Navy because it is important in maintaining high morale and retention rates. The shortage of MFH and the tight rental market in San Diego is felt most acutely by junior and mid-level enlisted military personnel. The Housing Market Analysis for the San Diego area estimates the current MFH deficit to be 2,356 units with a projected shortfall of 2,870 units in 2007.

The DEIS evaluates the potential environmental effects associated with each of the alternatives and options in the following areas: land use; socioeconomics; environmental justice; utilities; public services; visual resources; cultural resources; biological resources; soils and geology; water resources; hazardous wastes, substances and materials; traffic/circulation; air quality; noise; and public safety. The analysis also includes the evaluation of direct, indirect, short-term and cumulative impacts. No decision to implement any alternative, including the No Action Alternative, will be made until the NEPA process is complete.

The DEIS has been distributed to various Federal, state, and local agencies, elected officials, and special interest groups. The DEIS is available for public review at the following libraries:

• Tierrasanta Branch Library, 4985 La Cuenta Dr, San Diego, CA.

• Scripps Ranch Branch Library, 10301 Scripps Ranch Lake Drive, San Diego, CA.

• San Diego Central Library, 820 East St, San Diego, CA.

• Mira Mesa Library, 8405 New Salem Dr, San Diego, CA.

• Santee Library, 9225 Carlton Hills Blvd, Suite 17, Santee, CA.

All comments, both oral and written, will become part of the official record. Comments should clearly describe specific issues or topics with the DEIS. Written comments can be submitted at the public meetings or mailed to: Commander, Southwest Division, Naval Facilities Engineering Command, Attn: Ms. Sheila Donovan, Code 05GPE.SD 1220 Pacific Highway, San Diego, CA 92132-5190. Comments must be postmarked by August 12, 2003, to be considered in this environmental review process.

Dated: June 20, 2003.
E.F. McDonnell,
Major, U.S. Marine Corps, Federal Register Liaison Officer.

[FR Doc. 03-16296 Filed 6-26-03; 8:45 am]

BILLING CODE 3810-FF-P